DEPARTMENT OF DEFENSE

Office of the Secretary

[Docket ID: DoD-2013-OS-0152]

Privacy Act of 1974; System of Records

AGENCY: Defense Finance and Accounting Service, DoD.

ACTION: Notice to alter a System of Records.

SUMMARY: The Defense Finance and Accounting Service proposes to alter a system of records, T5020, entitled “Freedom of Information Act Request” in its inventory of record systems subject to the Privacy Act of 1974 (5 U.S.C. 552a), as amended. This system will enable DFAS to track inquiries and communications received and processed to include questions involving the Saving Deposit Program, and allow management to capture benchmark reporting in order to track the turn-around time on financial inquiries.

DATES: This proposed action will be effective on August 13, 2013 unless comments are received which result in a contrary determination. Comments will be accepted on or before August 12, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory L. Outlaw, Defense Finance and Accounting Service, Freedom of Information/Privacy Act Program Manager, Corporate Communications, DFAS-HKC/IN, 8899 E. 56th Street, Indianapolis, IN 46249-0150 or at (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/dfas/index.html.

The proposed system report, as required by 5 U.S.C. 552a(r) of the Privacy Act of 1974, as amended, was submitted on July 2, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 9, 2013.
Aaron Siegel,
Alternate OSD Federal Register Liaison Officer, Department of Defense.

T5015c

System name:

Freedom of Information Act Requests (December 15, 2008, 73 FR 76005)

Changes:

System ID:

Delete entry and replace with “T5020”

* * * * *

System location:

Delete entry and replace with “Defense Finance and Accounting Service-Indianapolis, 8899 East 56th Street, Indianapolis, IN 26249-0150.

Defense Finance and Accounting Service-Cleveland, 1240 East 9th Street, Cleveland, OH 44199-2055.”

* * * * *

Categories of records in the system:

Delete entry and replace with “Name, address, telephone number, email address and case control number; correspondence from the public requesting information under the Freedom of Information Act and the reply, which may include copies of the released record(s), denials, and appeals; correspondence pertaining to the request, the information released or withheld, summaries, logs of actions taken; and correspondence from and to other DoD and Federal agencies regarding specific requests of mutual interest.”

* * * * *

Safeguards:

Delete entry and replace with “Records are maintained in a controlled facility. Physical entry is restricted by the use of locks, guards, and is accessible only to authorized personnel. Access to records is limited to person(s) responsible for servicing the record in the performance of their official duties and who are properly screened and cleared for need-to-know. Common Access Cards, passwords and user identifications (CAC and PKI) are used to control access to the system data, and procedures are in place to deter browsing and unauthorized access.”

* * * * *

System manager(s) and address:

Delete entry and replace with “Defense Finance and Accounting Service, Freedom of Information/Privacy Act Program Manager, Corporate Communications, DFAS-ZCF/IN, 8899 E. 56th Street, Indianapolis, IN 46249-0150.”

Notification procedure:

Delete entry and replace with “Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, current address for reply, and provide a reasonable description of what they are seeking.”

Record access procedures:

Delete entry and replace with “Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, current address for reply, and telephone number.”

Contesting record procedures:

Delete entry and replace with “The Defense Finance and Accounting Service (DFAS) rules for accessing records, for contesting contents and appealing initial agency determinations are published in Defense Finance and Accounting Service Regulation 5400.11-R, 32 CFR 324; or may be obtained from the Defense Finance and Accounting Service, Freedom of Information/Privacy Act Program Manager, Corporate Communications, DFAS-ZCF/IN, 8899 E. 56th Street, Indianapolis, IN 46249-0150.”

* * * * *

[FR Doc. 2013-16743 Filed 7-11-13; 8:45 am]

BILLING CODE 5001-06-P